DEPARTMENT OF ENERGY

Agency Information Collection Under Review by the Office of Management and Budget

AGENCY: Department of Energy.

ACTION: Submission for OMB review; comment request.

SUMMARY: The Department of Energy (DOE), pursuant to section 3506(c)(2)(A) of the Paperwork Reduction Act of 1995, intends to extend for three years, an information collection package with the Office of Management and Budget (OMB).

The package covers collections of information concerning the public and the management and administration of DOE's Government-owned/contractor-operated facilities (GOCOs), off-site contractors, and the public. The information is used by Departmental management to exercise management oversight with respect to the implementation of applicable statutory and contractual requirements and obligations. The collection of this information is critical to ensure that the Government has sufficient information to judge the degree to which contractors meet contractual requirements; that public funds are being spent in the manner intended; and that fraud, waste, and abuse are immediately detected and eliminated.

DATES: Written comments and recommendations for the proposed collections of information must be submitted to the OMB Desk Officer, within January 11, 2002. If you anticipate that you will be submitting comments, but find it difficult to do so within the period of time allowed by this Notice, please advise the OMB Desk Officer of your intention to make a submission as soon as possible. The Desk Officer may be telephoned at (202) 395-3087. In addition, please notify the DOE contact listed in this Notice.

ADDRESSES: Address comments to the DOE Desk Officer, Office of Information and Regulatory Affairs, Office of Management and Budget, New Executive Office Building, Room 10102, 725 17th Street, NW, Washington, DC 20503. (Comments should also be addressed to Susan L. Frey, Director, Records Management Division, Office of the Deputy Associate CIO for Cyber Security [IM-11], Office of the Chief Information Officer, U.S. Department of Energy, Germantown, MD 20874-1290.)

FOR FURTHER INFORMATION CONTACT: Requests for copies of the Department's Paperwork Reduction Act Submission should be directed to Michael B. Raizen, Office of Procurement and Assistance Policy (ME-61), U.S. Department of Energy, Washington, DC 20585, (202) 586-8189. Any other information should be directed to Ms. Susan L. Frey, (see above address), by telephone at (301) 903-3666 or e-mail at Susan.Frey@hq.doe.gov.

SUPPLEMENTARY INFORMATION: This package contains: (1) Current OMB No. 1910-4100; (2) Package Title: Procurement; (3)Summary: Request for a three-year extension, which covers mandatory responses; (4) Purpose: This information is required by DOE to ensure that programmatic and administrative management requirements and resources are managed efficiently and effectively and to exercise management oversight over DOE M&O contractors of the Department's GOCO facilities, and off-site contractors. (5) Type of Respondents: DOE management and operating contractors; off-site contractors, and the public; (6) Estimated Number of Responses: 3,811; Estimated number of Burden Hours: 1,086,529. This estimate is the sum of the burden reported by Departmental Elements and the Field Organizations as compiled from their respective contractors or estimated by expert personnel familiar with these collections. Computations are based on the number of respondents times the annual reporting frequency times the hours per each response.

Statutory Authority: Section 3506(c)(2)(A) of the Paperwork Reduction Act of 1995 (Pub. L. 104-13).

Issued in Washington, DC on December 5, 2001.
Loretta D. Bryant,
Acting Director, Records Management Division, Office of Deputy Associate CIO for Cyber Security, Office of the Chief Information Officer.

[FR Doc. 01-30748 Filed 12-11-01; 8:45 am]

BILLING CODE 6450-01-P